ENVIRONMENTAL PROTECTION AGENCY

[EPA-HQ-OMS-2020-0454; FRL-10025-79-OMS]

Information Collection Request Submitted to OMB for Review and Approval; Comment Request; Public Health Emergency Workplace Response System (Renewal)

AGENCY: Environmental Protection Agency (EPA).

ACTION: Notice.

SUMMARY: The Environmental Protection Agency (EPA) has submitted an information collection request (ICR), Public Health Emergency Workplace Response System (EPA ICR Number 2676.02, OMB Control Number 2030-0049) to the Office of Management and Budget (OMB) for review and approval in accordance with the Paperwork Reduction Act. This is a proposed extension of the ICR, which is currently approved through June 30, 2021. Public comments were previously requested, via the Federal Register, on May 12, 2020 during a 60-day comment period. This notice allows for an additional 30 days for public comments. A fuller description of the ICR is given below, including its estimated burden and cost to the public. An agency may not conduct or sponsor and a person is not required to respond to a collection of information unless it displays a currently valid OMB control number.

DATES: Comments must be submitted on or before August 30, 2021.

ADDRESSES: Submit your comments, referencing Docket ID Number EPA-HQ-OMS-2020-0454, online using www.regulations.gov (our preferred method) or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Daniel Coogan, Office of Resource and Business Operations, Office of Mission Support, Environmental Protection Agency; telephone number: 202-564-1862; email address: coogan.daniel@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: Because of the substantial risk to life, safety, or health of the workforce and the public, EPA requests an emergency approval to collect the necessary information from Federal employees, detailees, interns, volunteers, grantee recipients and contractors that perform work in EPA facilities to implement an effective COVID-19 Contact Tracing program.

Each item of information requested is based on CDC and industry best practice for Contact Tracing. This information is necessary to identify individuals in the workforce who are COVID-19 positive and to notify and trace persons in the workforce who were in close contact with the COVID-19 positive employee. Including contractors, interns, grantees, and volunteers, enables EPA to capture the total workforce and take appropriate action.

The following information will be collected for COVID Contact Testing:

—Name;

—Work location;

—Contact information;

—Supervisor;

—Health status;

—Close contacts (as defined by CDC) when in the office; and

—Building and floors visited during period of possible transmission (as defined by CDC).

Form Numbers: None.

Respondents/affected entities: EPA's Contract Tracing Program participants, including detailees, interns, volunteers, grantee recipients and contractors.

Respondent's obligation to respond: Voluntary.

Estimated number of respondents: 250 (total).

Frequency of response: Once.

Total estimated burden: 63 hours (per year). Burden is defined at 5 CFR 1320.03(b).

Total estimated cost: $0 (per year), which includes annualized capital or operation & maintenance costs.

Changes in the Estimates: There is no change in the total estimated respondent burden compared with the ICR currently approved by OMB.

Courtney Kerwin,
Director, Regulatory Support Division.

[FR Doc. 2021-13947 Filed 6-29-21; 8:45 am]

BILLING CODE 6560-50-P